DEPARTMENT OF ENERGY

Federal Energy Regulatory Commission

[Project No. 14787-004]

Black Canyon Hydro, LLC; Notice of Anticipated Schedule for Seminoe Pumped Storage Project

On January 18, 2023, Black Canyon Hydro, LLC filed an application for authorization to construct and operate the Seminoe Pumped Storage Project. The project would be located at the Bureau of Reclamation's Seminoe Reservoir on the North Platte River in Carbon County, Wyoming, approximately 35 miles northeast of Rawlins, Wyoming. The project would occupy 820.62 acres of land managed by the Bureau of Land Management and 52.89 acres of land managed by the Bureau of Reclamation.

The application will be processed according to the following anticipated schedule.

Notice of Ready for Environmental Analysis: August 2023.

Draft National Environmental Policy Act Document: May 2024.

Final National Environmental Policy Act Document: November 22, 2024.

In addition, in accordance with Title 41 of the Fixing America's Surface Transportation Act, enacted on December 4, 2015, agencies are to publish completion dates for all federal environmental reviews and authorizations. This notice identifies the Commission's anticipated schedule for issuance of the final order for the project, which is based on the anticipated date of issuance of the final National Environmental Policy Act document. Accordingly, we currently anticipate issuing a final order for the project no later than:

Issuance of Final Order: February 20, 2025.

If a schedule change becomes necessary, an additional notice will be provided so that interested parties and government agencies are kept informed of the project's progress.

Dated: March 31, 2023.
Kimberly D. Bose,
Secretary.

[FR Doc. 2023-07199 Filed 4-5-23; 8:45 am]

BILLING CODE 6717-01-P